DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: National Oceanic and Atmospheric Administration, Office of Education, Educational Partnership Program (EPP) and Ernest F. Hollings Undergraduate Scholarship Program.

OMB Control Number: 0648-0568.

Form Number(s): NA.

Type of Request: Regular submission (extension of a currently approved collection).

Number of Respondents: 3,484.

Average Hours per Response: Graduate sciences and undergraduate student applications, 8 hours; references and alumni updates, 1 hour; student tracker database updates, 16 hours.

Burden Hours: 11,328.

Needs and Uses: Under the authority of section 4002 of the America COMPETES Act, Public Law 110-69, the National Oceanic and Atmospheric Administration (NOAA) Office of Education (OEd) collects, evaluates and assesses student data and information for the purpose of selecting successful candidates, generating internal NOAA reports and articles to demonstrate the success of its scholarship programs. The OEd requires applicants to its student scholarship programs to complete an application for NOAA undergraduate and graduate scholarship programs. Part of the application package requires completion of a NOAA student scholar reference form in support of the scholarship application, by academic professors/advisors. NOAA OEd student scholar alumni are also requested to provide information to NOAA for internal tracking purposes. NOAA OEd grantees are required to update the student tracker database with the required student information. In addition, the collected student data supports NOAA OEd's program performance measures.

Affected Public: Individuals or households, state, local and tribal government, not-for-profit organizations.

Frequency: Annually and on occasion.

Respondent's Obligation: Required to obtain or retain benefits and voluntary.

OMB Desk Officer: David Rostker, (202) 395-3897.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 28, 2010.
Gwellnar Banks,
Management Analyst, Office of the Chief Information Officer.

[FR Doc. 2010-18855 Filed 7-30-10; 8:45 am]

BILLING CODE 3510-12-P